DEPARTMENT OF ENERGY

Federal Energy Regulatory Commission

Notice of FERC Staff Attendance at Southwest Power Pool Board of Directors/Members Committee Meeting and Southwest Power Pool Regional State Committee Annual Meeting

October 22, 2008.

The Federal Energy Regulatory Commission hereby gives notice that members of its staff may attend the meetings of the Southwest Power Pool (SPP) Regional State Committee, and of the SPP Members Committee and SPP Board of Directors, as noted below. Their attendance is part of the Commission's ongoing outreach efforts.

SPP Regional State Committee Annual Meeting: October 27, 2008 (1 p.m.-5 p.m.), Marriott Tulsa Southern Hills, 1902 East 71st Street, Tulsa, OK 74136, 918-493-7000.

SPP Board of Directors and Annual Meeting of Members: October 28, 2008 (8:30 a.m.-3 p.m.), Marriott Tulsa Southern Hills, 1902 East 71st Street, Tulsa, OK 74136, 918-493-7000.

The discussions may address matters at issue in the following proceedings:

Docket No. ER06-451, Southwest Power Pool, Inc.

Docket Nos. ER07-319 and EL07-73, Southwest Power Pool, Inc.

Docket No. ER07-371, Southwest Power Pool, Inc.

Docket No. ER07-1255, Southwest Power Pool, Inc.

Docket No. ER08-340, Southwest Power Pool, Inc.

Docket No. ER08-923, Southwest Power Pool, Inc.

Docket No. ER08-1212, Southwest Power Pool, Inc.

Docket No. ER08-1307, Southwest Power Pool, Inc.

Docket No. ER08-1308, Southwest Power Pool, Inc.

Docket No. ER08-1357, Southwest Power Pool, Inc.

Docket No. ER08-1358, Southwest Power Pool, Inc.

Docket No. ER08-1371, Southwest Power Pool, Inc.

Docket No. ER08-1379, Southwest Power Pool, Inc.

Docket No. ER08-1419, Southwest Power Pool, Inc.

Docket No. ER08-1465, Southwest Power Pool, Inc.

Docket No. ER08-1516, Southwest Power Pool, Inc.

Docket No. ER08-1543, Southwest Power Pool, Inc.

Docket No. ER08-1549, Southwest Power Pool, Inc.

Docket No. ER08-1563, Southwest Power Pool, Inc.

Docket No. ER08-1585, Southwest Power Pool, Inc.

Docket No. ER08-1601, Southwest Power Pool, Inc.

Docket No. ER08-1604, Southwest Power Pool, Inc.

Docket No. EL08-80-000, Oklahoma Corporation Commission

Docket No. ER09-7, Southwest Power Pool, Inc.

Docket No. ER09-35, Tallgrass Transmission LLC

Docket No. ER09-36, Prairie Wind Transmission LLC

Docket No. OA08-5, Southwest Power Pool, Inc.

Docket No. OA08-60, Southwest Power Pool, Inc.

Docket No. OA08-61, Southwest Power Pool, Inc.

Docket No. OA08-104, Southwest Power Pool, Inc.

Docket No. RT04-1-23, Southwest Power Pool, Inc.

These meetings are open to the public.

For more information, contact Patrick Clarey, Office of Energy Market Regulation, Federal Energy Regulatory Commission at (317) 249-5937 or patrick.clarey@ferc.gov.

Kimberly D. Bose,
Secretary.

[FR Doc. E8-25683 Filed 10-27-08; 8:45 am]

BILLING CODE 6717-01-P